FEDERAL ELECTION COMMISSION

[Notice 2004-4]

Filing Dates for the South Dakota Special Congressional Election

AGENCY: Federal Election Commission.

ACTION: Notice of filing dates for special election.

SUMMARY: South Dakota has scheduled a special general election on June 1, 2004, to fill the At-Large seat in the U.S. House of Representatives vacated by Representative William J. Janklow.

Committees participating in the South Dakota Special General Election are required to file pre- and post-election reports.

FOR FURTHER INFORMATION CONTACT: Mr. Kevin R. Salley, Information Division, 999 E Street, NW., Washington, DC 20463; telephone: (202) 694-1100; toll free (800) 424-9530.

SUPPLEMENTARY INFORMATION:

Principal Campaign Committees

All principal campaign committees of candidates participating in the South Dakota Special General Election shall file a 12-day Pre-General Report on May 20, 2004; and a 30-day Post-General Report on July 1, 2004. (See chart below for the closing date for each report).

Unauthorized Committees (PACs and Party Committees)

Political committees filing on a quarterly basis in 2004 are subject to special election reporting if they make previously undisclosed contributions or expenditures in connection with the South Dakota Special General Election by the close of books for the applicable report(s). (See chart below for the closing date for each report).

Committees filing monthly that support candidates in the South Dakota Special General Election should continue to file according to the monthly reporting schedule.

Disclosure of Electioneering Communications (Individuals and Other Unregistered Organizations)

As required by the Bipartisan Campaign Reform Act of 2002, the Federal Election Commission promulgated new electioneering communications rules governing television and radio communications that refer to a clearly identified federal candidate and are distributed within 60 days prior to a special general election. 11 CFR 100.29. The statute and regulations require, among other things, that individuals and other groups not registered with the FEC who make electioneering communications costing more than $10,000 in the aggregate in a calendar year disclose that activity to the Commission within 24 hours of the distribution of the communication. See 11 CFR 104.20.

The 60-day electioneering communications period in connection with the South Dakota Special General runs from April 2, 2004, through June 1, 2004.

Calendar of Reporting Dates for South Dakota Special Election
Report | Close of books ¹ | Reg./cert. mailing date ² | Filing date
COMMITTEES INVOLVED IN THE SPECIAL GENERAL (06/01/04) MUST FILE
Pre-General | 05/12/04 | 05/17/04 | 05/20/04
Post-General | 06/21/04 | 07/01/04 | 07/01/04
¹ The period begins with the close of books of the last report filed by the committee. If the committee has filed no previous reports, the period begins with the date of the committee's first activity.
² Pre- and Post-General Reports sent registered or certified mail must be postmarked by the mailing date; otherwise, they must be received by the filing date. Committees should keep the mailing receipt with its postmark as proof of filing.

Dated: January 28, 2004.
Bradley A. Smith,
Chairman, Federal Election Commission.

[FR Doc. 04-2208 Filed 2-3-04; 8:45 am]

BILLING CODE 6715-01-P